NUCLEAR REGULATORY COMMISSION

[Docket No. 72-10; NRC-2024-0086]

Northern States Power Company; Prairie Island Independent Spent Fuel Storage Installation; License Amendment Application

AGENCY: Nuclear Regulatory Commission.

ACTION: Notice; issuance.

SUMMARY: The U.S. Nuclear Regulatory Commission (NRC) reviewed an application by Northern States Power Company (NSPM) for amendment of Special Nuclear Materials License No. SNM-2506 which authorizes NSPM to receive, possess, store, and transfer spent nuclear fuel and associated radioactive materials. The amendment request sought to revise the license conditions to describe the inspection intervals similar to Technical Specifications Surveillance Requirement Frequency, allowing up to 1.25 times the specified intervals to account for scheduling challenges, including but not limited to inclement weather, security drills, and refueling outages.

DATES: The license amendment was issued September 23, 2024.

ADDRESSES: Please refer to Docket ID NRC-2024-0086 when contacting the NRC about the availability of information regarding this document. You may obtain publicly available information related to this document using any of the following methods:

• Federal Rulemaking Website: Go to https://www.regulations.gov and search for Docket ID NRC-2024-0086. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: John-Chau Nguyen, Office of Nuclear Material Safety and Safeguards, U.S. Nuclear Regulatory Commission, Washington, DC 20555-0001; telephone: 301-415-0262; email: John-Chau.Nguyen@nrc.gov.

SUPPLEMENTARY INFORMATION: The NRC received, by letter dated April 2, 2024 (ADAMS Accession No. ML24095A075), a license amendment application from NSPM, to amend Special Nuclear Materials License No. SNM-2506, which authorizes the storage of spent fuel at the Prairie Island Independent Spent Fuel Storage Installation (PI ISFSI) located in Welch, Minnesota. Specifically, the amendment sought to revise License Conditions 23(a), 24(A)(2), and 24(B)(2). The subject license conditions are aging management activities with specified inspection intervals of three months or one quarter. NSPM proposed to revise the license conditions to describe the inspection intervals similar to Technical Specifications Surveillance Requirement Frequency, allowing up to 1.25 times the specified intervals to account for scheduling challenges, including but not limited to inclement weather, security drills, and refueling outages.

An NRC administrative completeness review, documented in a letter to NSPM dated May 16, 2024 (ADAMS Accession No. ML24128A257), found the application acceptable to begin a technical review. In accordance with section 72.16 of title 10 of the Code of Federal Regulations (10 CFR), “Filing of application for specific license,” a notice of docketing was published in the Federal Register on May 28, 2024 (89 FR 46176). The notice of docketing included an opportunity to request a hearing and to petition for leave to intervene. No requests for a hearing or petitions for leave to intervene were submitted.

The NRC prepared a safety evaluation report (SER) (ADAMS Accession No. ML24241A169) to document its review and evaluation of the amendment request. In addition, the NRC evaluated an assertion by NSPM that the amendment request satisfied the categorical exclusion criteria specified in 10 CFR 51.22(c)(11). Under 10 CFR 51.22(c)(11), a categorical exclusion is allowed for amendments to materials licenses which are administrative, organizational, or procedural in nature, or which result in a change to process operations or equipment, provided that (i) there is no significant change in the types or significant increase in the amounts of any effluents that may be released offsite, (ii) there is no significant increase in individual or cumulative occupational radiation exposure, (iii) there is no significant construction impact, and (iv) there is no significant increase in the potential for or consequences from radiological accidents. As explained in the SER, the NRC determined that the license amendment request satisfied the 10 CFR 51.22(c)(11) categorical exclusion criteria. Consequently, an environmental assessment and finding of no significant impact are not required.

Upon completing its review, the NRC staff determined that the request complies with the standards and requirements of the Atomic Energy Act of 1954, as amended (the Act), as well as the NRC's rules and regulations. The Commission has made appropriate findings as required by the Act and the Commission's rules and regulations in 10 CFR chapter I, which are set forth in the license amendment. The NRC approved and issued Amendment No. 13 to Special Nuclear Materials License No. SNM-2506 (ADAMS Accession No. ML24241A170), held by NSPM for the receipt, possession, transfer, and storage of spent fuel and associated radioactive materials at the PI ISFSI. Pursuant to 10 CFR 72.46(d), the NRC is providing notice of the action taken. Amendment No. 13 was effective as of the date of issuance, September 23, 2024.

Dated: October 8, 2024.
For the Nuclear Regulatory Commission.
Christian Jacobs,
Acting Chief, Storage and Transportation Licensing Branch, Division of Fuel Management, Office of Nuclear Material Safety and Safeguards.

[FR Doc. 2024-23647 Filed 10-11-24; 8:45 am]

BILLING CODE 7590-01-P